LIBRARY OF CONGRESS

Copyright Royalty Board

[Docket No. 25-CRB-0014-SR/PSSR (2028-2032)]

Determination of Rates and Terms for Satellite Radio and “Preexisting” Subscription Services (SDARS IV)

AGENCY: Copyright Royalty Board, Library of Congress.

ACTION: Notice announcing commencement of proceeding with request for Petitions to Participate.

SUMMARY: The Copyright Royalty Judges announce commencement of a proceeding to determine reasonable rates and terms for the digital performance of sound recordings and the making of ephemeral recordings by satellite radio and “preexisting” subscription services for the period beginning January 1, 2028, and ending December 31, 2032. The Copyright Royalty Judges also announce the date by which a party wishing to participate in the rate determination proceeding must file its Petition to Participate and the accompanying $150 filing fee.

DATES: Petitions to Participate and the filing fee are due no later than January 30, 2026.

ADDRESSES: The petition to participate form is available online in eCRB, the Copyright Royalty Board's online electronic filing application, at https://app.crb.gov/.

Instructions: The petition to participate process has been simplified. Interested parties file a petition to participate by completing and filing the petition to participate form in eCRB and paying the fee in eCRB. Do not upload a petition to participate document.

Docket: For access to the docket to read submitted documents, go to eCRB, the Copyright Royalty Board's electronic filing and case management system, at https://app.crb.gov/, and search for docket number 25-CRB-0014-SR/PSSR (2028-2032).

FOR FURTHER INFORMATION CONTACT: Anita Brown, CRB Program Specialist, at (202) 707-7658 or crb@loc.gov.

SUPPLEMENTARY INFORMATION:

Background

Under the Copyright Act, the Copyright Royalty Judges (Judges), generally, must commence a proceeding every five years to determine reasonable rates and terms to license the digital transmission of sound recordings and the making of ephemeral recordings to facilitate those transmissions by preexisting subscription services ¹ and preexisting satellite digital audio radio services (SDARS). See 17 U.S.C. 112 (e), 114(d)(2), 804(b)(3)(B), 803(b)(1)(A)(i)(III). This notice commences the rate determination proceeding for the license period 2028-2032.

¹ Section 114 of Title 17 sets forth criteria to qualify as, and to maintain qualification as, a “preexisting” subscription services. See 17 U.S.C. 114(j)(11); see also 114(d)(2)(B).

Petitions To Participate

Parties with a significant interest in the outcome of the rate proceeding and wish to participate in the proceeding must provide the information required by § 351.1(b) of the Judges' regulations by completing and filing the Petition to Participate form in eCRB. Parties must pay the $150 filing fee when filing each Petition to Participate form. Parties must use the form in eCRB instead of uploading a document and must comply with the requirements of § 351.1(b)(1) of the Copyright Royalty Board's regulations. 37 CFR 351.1(b)(1). Only attorneys admitted to the bar in one or more states or the District of Columbia and members in good standing will be allowed to represent parties before the Judges. Only individuals may represent themselves and appear without legal counsel. 37 CFR 303.2.

The Judges will address scheduling and further procedural matters after receiving petitions to participate.

Dated: December 29, 2025.
Steve Ruwe,
Copyright Royalty Judge.

[FR Doc. 2025-24073 Filed 12-30-25; 8:45 am]

BILLING CODE 1410-72-P